DEPARTMENT OF TRANSPORTATION

Federal Aviation Administration

Notice of Availability of Draft Environmental Impact Statement (DEIS), Draft Section 4(f) Evaluation, Notice of ANILCA Title XI evaluation, and Notice of Public Comment Period and Schedule of Public Information Meeting and Public Hearing for the DEIS for Proposed Runway Safety Area Improvements at the Kodiak Airport, Kodiak, AK

AGENCY: Federal Aviation Administration (FAA). U.S. Coast Guard (USCG), U.S. Army Corps of Engineers (USACE), and National Marine Fisheries Services (NMFS) are cooperating agencies, by virtue of their jurisdictional authority and/or resource management responsibilities.

ACTION: Notice of availability, notice of comment period, notice of public information meeting and public hearing.

SUMMARY: In accordance with the National Environmental Policy Act of 1969 (NEPA, 42 U.S.C. 4321 et seq.) and Council on Environmental Quality regulations (40 CFR Part 1500-1508) the Federal Aviation Administration is issuing this notice to advise the public that a Draft Environmental Impact Statement (DEIS) for proposed Runway Safety Area improvements at the Kodiak Airport (ADQ) has been prepared and is available for public review and comment. Included in the DEIS is a draft evaluation pursuant to Section 4(f) of the Department of Transportation Act of 1966 (recodified at 49 U.S.C. § 303(c)). Written requests for the DEIS and written comments on the DEIS can be submitted to the individual listed in the section, FOR FURTHER INFORMATION CONTACT. A public hearing will be held on December 6, 2012. The public comment period will commence on October 19, 2012 and will close on December 18, 2012.

Public Comment and Information Meetings/Public Hearings: The start of the public comment period on the DEIS will be October 19, 2012 and will end on December 18, 2012. One combined public information meeting and public hearing will be held on December 6, 2012. The public information meeting on Thursday, December 6, 2012 will begin at 5:00 p.m. (ADT) and will last until 6:00 p.m. (ADT). The public hearing on that date will begin after the public information meeting, at 6:00 p.m. (ADT) and will last until 8:00 p.m. (ADT). The location for the Public Information Meeting/Public Hearing is the Kodiak Harbor Convention Center, 211 East Rezanof Drive, Kodiak AK 99615.

DEIS Availability and Review

Copies of the DEIS may be viewed during regular business hours at the following locations:

1. Federal Aviation Administration, Airports Division, 222 W. 7th Avenue #14, Anchorage, AK 99513-7504. (907) 271-5453.

2. Holmes Johnson Memorial Library, 319 Lower Mill Bay Road, Kodiak, AK 99615. (907) 486-8680.

3. Alaska Department of Transportation and Public Facilities, 4111 Aviation Avenue, Anchorage AK 99502.

4. Online at www.kodiakairporteis.com.

The Federal Aviation Administration, Airports Division has a limited number of CDs of the entire DEIS and the Executive Summary available for public distribution. Please contact the Federal Aviation Administration at (907) 271-5438 for a copy.

Comments from interested parties on the DEIS are encouraged and may be presented orally at the public hearing. Written comments may be submitted to the FAA during the public information meeting and hearing and through December 18, 2012 at the address listed in the section titled FOR FURTHER INFORMATION CONTACT. On-line comments may be submitted through the end of the comment period using the form provided at the project Web site www.kodiakairporteis.com by following the links to the PUBLIC COMMENT FORM. Additionally, comments can be emailed to Leslie.Grey@faa.gov.

The FAA encourages all interested parties to provide comments concerning the scope and content of the DEIS. Comments should be as specific as possible and may address such topics as the adequacy of the DEIS (e.g., the analysis of alternatives and potential environmental impacts), the merits of the alternatives, and the mitigation being considered. Reviewers should organize their participation so that it is meaningful and makes the agency aware of the reviewer's interests and concerns by using quotations and other specific references to the text of the DEIS and related documents. Matters that could have been raised with specificity during the comment period on the DEIS may not be considered if they are raised later in the decision process. This commenting procedure is intended to ensure that substantive comments and concerns are made available to the FAA in a timely manner so that the FAA has an opportunity to address them.

SUPPLEMENTARY INFORMATION: Based on FAA safety standards, the Kodiak Airport Master Plan identified a Runway Safety Area deficiency for two of Kodiak Airport's three runways. The DEIS discusses proposed improvements to the Runway Safety Areas for Runway 07/25 and Runway 18/36, which have the potential to result in significant adverse environmental impacts. The purpose and need for the project is to improve the Runway Safety Areas for Runway 07/25 and Runway 18/36 to the extent practicable; the purpose and need is discussed in detail in the DEIS. The DEIS also discusses various alternatives, including the no-action alternative.

The FAA and the State of Alaska Department of Transportation and Public Facilities (ADOT&PF) propose the following actions to meet the needs for improved Runway Safety Areas:

• Improvements to the Runway Safety Area for Runway 07/25.

• Improvements to the Runway Safety Area for Runway 18/36.

The proposed Airport improvements would be completed during the 2014-2015 time period. Potential environmental effects include temporary and long-term impacts to the marine environment and wildlife (including species protected under the Endangered Species Act); water quality; wetlands; historical and cultural resources; terrestrial wildlife and vegetation; socioeconomic conditions; subsistence activities; environmental justice; and resources protected under Section 4(f) of the Department of Transportation Act of 1966 (recodified at 49 U.S.C. 303(c)), which include the Alaska National Maritime Wildlife Refuge and the Buskin State Recreation Site.

The improvements to the Runway Safety Areas would occur within waters that are part of the Alaska National Maritime Wildlife Refuge and would affect lands established by the Alaska National Interests Land Conservation Act (ANILCA). As such, ADOT&PF, the project sponsor, has prepared an application under ANILCA for the use of lands through the ANILCA Title XI process.

FOR FURTHER INFORMATION CONTACT: Leslie Grey, Environmental Specialist, Federal Aviation Administration, Alaskan Region, Airports Division, 222 W. 7th Avenue #14, Anchorage, AK 99513-7504. Ms. Grey may be contacted during business hours at (907) 271-5453 (phone) and (907) 271-2851 (facsimile).

The comment period will close on December 18, 2012.

Issued in Anchorage, Alaska on October 5, 2012.
Byron K. Huffman,
Manager, Airports Division, Alaskan Region.

[FR Doc. 2012-26041 Filed 10-22-12; 8:45 am]

BILLING CODE 4910-13-P